DEPARTMENT OF COMMERCE

National Oceanic and Atmospheric Administration

[RIN 0648-XD011]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of its Coastal Pelagic Species Management Team (CPSMT).

DATES: The meeting will be held Tuesday, January 7 through Thursday, January 9, 2014. The meeting will begin the first day at 10 a.m. and at 8 a.m. each subsequent day. The meeting will conclude each day at 5 p.m. or when business for the day has been completed.

ADDRESSES: The meeting will be held in the Pacific Conference Room of the NOAA Southwest Fisheries Science Center, 8901 La Jolla Shores Dr., La Jolla, CA 92037-1508. The meeting may move to a different conference room on the final day (January 9, 2014).

FOR FURTHER INFORMATION CONTACT: Kerry Griffin, Pacific Council Staff Officer; telephone: (503) 820-2280.

SUPPLEMENTARY INFORMATION: The primary purpose of the meeting is to develop advice for the Pacific Council regarding the temperature index used as a correlate for sardine recruitment, as well as other considerations regarding elements of the Pacific sardine harvest control rule. The CPSMT will develop a report for inclusion in the advance briefing book materials for the March, 2014 Council meeting.

Action will be restricted to those issues specifically listed in this notice and any issues arising after publication of this notice that require emergency action under section 305(c) of the Magnuson-Stevens Fishery Conservation and Management Act, provided the public has been notified of the CPSMT's intent to take final action to address the emergency.

Special Accommodations

This meeting is physically accessible to people with disabilities. Requests for sign language interpretation or other auxiliary aids should be directed to Mr. Dale Sweetnam (858) 546-7170, at least 5 days prior to the meeting date.

Dated: November 27, 2013.
Tracey L. Thompson,
Acting Deputy Director, Office of Sustainable Fisheries, National Marine Fisheries Service.

[FR Doc. 2013-28865 Filed 12-2-13; 8:45 am]

BILLING CODE 3510-22-P